DEPARTMENT OF ENERGY

Federal Energy Regulatory Commission

[Project No. 13739-002]

Lock+ Hydro Friends Fund XLII, LLC; Notice of Final Environmental Assessment

In accordance with the National Environmental Policy Act of 1969 and the Federal Energy Regulatory Commission's regulations, 18 CFR part 380 (Order No. 486, 52 FR 447897), the Office of Energy Projects has reviewed the application for an original license for the proposed 5.25-megawatt (MW) Braddock Locks and Dam Hydroelectric Project, which would be located on the U.S. Army Corps of Engineers' Braddock Locks and Dam facility on the Monongahela River in the Borough of West Mifflin and the City of Duquesne, Allegheny County, Pennsylvania. Commission staff prepared a final Environmental Assessment (EA) which analyzes the potential environmental effects of construction and operation of the project and concludes that issuing a license for the project, with appropriate environmental measures, would not constitute a major federal action significantly affecting the quality of the human environment.

A copy of the final EA is on file with the Commission and is available for public inspection. The final EA may also be viewed on the Commission's Web site at http://www.ferc.gov using the “eLibrary” link. Enter the docket number excluding the last three digits in the docket number field to access documents. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

For further information contact Andy Bernick at (202) 502-8660.

Dated: June 13, 2014.
Kimberly D. Bose,
Secretary.

[FR Doc. 2014-14374 Filed 6-19-14; 8:45 am]

BILLING CODE 6717-01-P